DEPARTMENT OF ENERGY

Federal Energy Regulatory Commission

[ Docket No. RP07-446-000]

Northern Natural Gas Company; Notice of Proposed Changes in FERC Gas Tariff

May 14, 2007.

Take notice that on May 11, 2007, Northern Natural Gas Company (Northern), tendered for filing in its FERC Gas Tariff, Fifth Revised Volume No. 1, the following tariff sheets, with an effective date of June 11, 2007:

Fourth Revised Sheet No. 114

Sixth Revised Sheet No. 119

Fourth Revised Sheet No. 125C

Second Revised Sheet No. 129

Third Revised Sheet No. 130

Fifth Revised Sheet No. 139

Fifth Revised Sheet No. 142C

First Revised Sheet No. 146A

First Revised Sheet No. 155

Ninth Revised Sheet No. 200

Fourth Revised Sheet No. 206A

Sixth Revised Sheet No. 222

Sixth Revised Sheet No. 251

Thirteenth Revised Sheet No. 252

Seventh Revised Sheet No. 253

Third Revised Sheet No. 253A

Fourth Revised Sheet No. 254

Sixth Revised Sheet No. 255

Fifth Revised Sheet No. 256

Fifth Revised Sheet No. 305

Northern states that the above sheets are being filed to modify outdated information required to request throughput service on Northern's system.

Northern states that copies of the filing have been mailed to each of its customers and interested State Commissions.

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed in accordance with the provisions of § 154.210 of the Commission's regulations (18 CFR 154.210). Anyone filing an intervention or protest must serve a copy of that document on the Applicant. Anyone filing an intervention or protest on or before the intervention or protest date need not serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible online at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Philis J. Posey,
Deputy Secretary.

[FR Doc. E7-9623 Filed 5-17-07; 8:45 am]

BILLING CODE 6717-01-P